DEPARTMENT OF COMMERCE

National Oceanic and Atmospheric Administration

[I.D. 040902C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Monday, May 13, 2002, at 1 p.m. and may go into the evening until business for the day is completed. The meeting will reconvene from 8 a.m. to 5 p.m. Tuesday, May 14 through Friday, May 17.

ADDRESSES: The meetings will be held at the NMFS Southwest Fisheries Science Center, Santa Cruz Laboratory, 110 Shaffer Road, Santa Cruz, CA 95060; telephone: (831) 420-3900.

Council address: Pacific Fishery Management Council, 7700 NE Ambassador Place, Suite 200, Portland, OR 97220-1384.

FOR FURTHER INFORMATION CONTACT: Mr. John DeVore, Groundfish Staff Officer; telephone: (503) 326-6352.

SUPPLEMENTARY INFORMATION: The purpose of the GMT working meeting is to plan strategies to effectively aid the Council in managing 2002 West Coast groundfish fisheries and Council initiatives expected to arise in 2002. Additionally, the GMT will discuss groundfish management measures in place for the spring and summer months, discuss recommended management measures for 2003 fisheries, respond to assignments relating to implementation of the Council=s groundfish strategic plan, review and consider technical aspects of draft stock rebuilding plans and analyses, review new groundfish stock assessments and survey results, and address other assignments relating to groundfish management.

Although non-emergency issues not contained in this agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 326-6352 at least 5 days prior to the meeting date.

Dated: April 23, 2002.
Richard W. Surdi,
Acting Director, Office of Sustainable Fisheries, National Marine Fisheries Service.

[FR Doc. 02-10491 Filed 4-26-02; 8:45 am]

BILLING CODE 3510-22-S